DEPARTMENT OF ENERGY

Federal Energy Regulatory Commission

[Docket No. CP25-514-000; Docket No. CP25-517-000]

Tennessee Gas Pipeline Company, LLC; Southern Natural Gas Company, LLC; Elba Express Company, LLC; Notice of Availability of The Draft Environmental Impact Statement for the Proposed Mississippi Crossing Project and South System Expansion 4 Project

The staff of the Federal Energy Regulatory Commission (FERC or Commission) has prepared a draft environmental impact statement (EIS) for the Mississippi Crossing Project (MSX), proposed by Tennessee Gas Pipeline Company, LLC (TGP) and the South System Expansion 4 Project (SSE4), proposed by Southern Natural Gas Company, LLC (SNG) and Elba Express Company, LLC (EEC).¹ TGP requests authorization to construct and operate approximately 208 miles of natural gas pipeline and pipeline lateral facilities in Washington, Sunflower, Humphreys, Holmes, Attala, Leake, Neshoba, Newton, Lauderdale, and Clarke counties, Mississippi and Choctaw County, Alabama. MSX would also include three new compressor stations, modifications to one existing compressor station, four new meter stations, and other appurtenant facilities. SNG/EEC request authorization to construct and operate 22 natural gas pipeline loops totaling approximately 291 miles, modifications to add compression at 14 existing compressor stations on SNG's South Main Line and the Elba Express Pipeline, and three new meter stations and modifications to seven existing meter stations within Clarke and Lauderdale counties, Mississippi; Sumter, Marengo, Perry, Dallas, Autauga, Elmore, Tallapoosa, Macon, Hale, and Lee counties, Alabama; and, Clayton, Muscogee, Harris, Talbot, Upson, Crawford, Monroe, Bibb, Jones, Baldwin, Glascock, Jefferson, Richmond, Spalding, Henry, Lowndes, Burke, Screven, Cobb, Chatham, and Effingham counties, Georgia.

¹ For tracking purposes under the National Environmental Policy Act, the unique identification number for documents relating to this environmental review is FERC/EISX-019-20-000-1751972052.

Any person wishing to comment on the draft EIS may do so. To ensure consideration of your comments on the proposal in the final EIS, it is important that the Commission receive your comments on or before 5:00pm Eastern Time on March 23, 2026. Instructions for filing comments are provided on page 4.

FERC is the lead federal agency for authorizing interstate natural gas transmission facilities under the Natural Gas Act of 1938 (NGA) and the lead federal agency for preparation of the draft EIS. The draft EIS assesses the potential environmental effects of the construction and operation of MSX and SSE4 (collectively referred to as “the Projects”) in accordance with the requirements of the National Environmental Policy Act (NEPA) ² and the Commission's implementing regulations.³ The principal purposes of the draft EIS are to: identify and assess the potential effects on the natural and human environment; describe and evaluate reasonable alternatives; identify and recommend mitigation measures; and facilitate public involvement in the environmental review process. The EIS concludes that approval of the proposed Projects would have some limited adverse environmental effects; however, with implementation of TGP, SNG, and EEC's avoidance, minimization, and mitigation measures, as well as adherence to Commission staff's mitigation measures recommended in the EIS, these effects would be less than significant.

² National Environmental Policy Act of 1969, as amended (Public Law [Pub. L.] 91-190. 42 U.S.C. 4321-4347, as amended by Pub. L. 94-52, July 3, 1975; Pub. L. 94-83, August 9, 1975; Pub. L. 97-258, 4(b), September 13, 1982; Pub. L. 118-5, June 3, 2023; Pub. L. 119-21, July 4, 2025).

³ 18 Code of Federal Regulations (CFR) 380.

Three districts of the U.S. Army Corps of Engineers, the U.S. Environmental Protection Agency, the U.S. Fish and Wildlife Service, the National Park Service, the Alabama Department of Conservation and Natural Resources, and the Mississippi Department of Wildlife, Fisheries, and Parks participated as cooperating agencies in the preparation of the draft EIS. Cooperating agencies have jurisdiction by law or special expertise with respect to resources potentially affected by the proposal and participate in the NEPA analysis. The U.S. Army Corps of Engineers will adopt and use the EIS to consider the issuance of Section 404 of the Clean Water Act. Although the cooperating agencies provided input towards the conclusions and recommendations presented in the draft EIS, the agencies will present their own conclusions and recommendations in their respective records of decision (where applicable) for the Projects.

The draft EIS addresses the potential environmental effects of construction and operation in Mississippi and Alabama of the following MSX facilities:

• Approximately 177 miles of new 42-inch-diameter natural gas pipeline and 22 miles of 36-inch-diameter natural gas pipeline in Mississippi and Alabama;

• Five new lateral natural gas pipelines:

○ Seven-mile-long, 36-inch-diameter Columbia Gulf Transmission Lateral in Humphreys and Sunflower counties, Mississippi;

○ A 0.9-mile-long, 30-inch-diameter Texas Eastern Transmission, LP Lateral in Attala County, Mississippi;

○ A 0.7-mile-long, 30-inch-diameter Texas Gas Lateral in Attala County, Mississippi;

○ A 0.1-mile-long, 30-inch-diameter TGP 500 Lateral in Attala County, Mississippi;

○ A 0.5-mile-long, 36-inch-diameter Transcontinental Gas Pipe Line Company Lateral in Choctaw County, Alabama;

• Three new natural gas compressor stations:

○ Station 602—95,700 International Organization for Standardization (ISO) horsepower (hp) station in Humphreys County, Mississippi;

○ Station 606A—23,470 ISO hp station in Attala County, Mississippi;

○ Station 610—63,800 ISO hp station in Lauderdale County, Mississippi;

• Modifications at existing compressor station 54 located in Washington County, Mississippi;

• Four new meter stations;

• Three new overpressure protection facilities; and

• Appurtenant facilities such as mainline valves, cathodic protection, and pipeline inspection gauge trap facilities throughout the MSX area.

The draft EIS also addresses the potential environmental effects of construction and operation in Mississippi, Alabama, and Georgia of the following SSE4 facilities:

• 22 new gas pipeline loops, organized into 14 segments, totaling approximately 291 miles and located mainly parallel to SNG's existing South Main Line in Mississippi, Alabama, and Georgia;

• Modifications and/or horsepower expansions to increase compression at 14 existing stations located along SNG's South Main Line and EEC's Elba Express Pipeline; and

• Three new meter stations and modifications to seven existing meter stations along the South Main Line and Elba Express Pipeline.

In addition, SSE4 would include abandonment of approximately 4.4 miles of SNG's existing 16-inch-diameter K Gen Lateral in Clarke County, Mississippi.

The Commission mailed a copy of the Notice of Availability of the draft EIS to federal, state, and local government representatives and agencies; elected officials; environmental and public interest groups; Native American tribes; potentially affected landowners and other interested individuals and groups; and newspapers and libraries in the project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e. CP25-514 or CP25-517). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Under section 7(c) of the NGA, the Commission determines whether interstate natural gas transportation facilities are in the public convenience and necessity and, if so, grants a Certificate of Public Convenience and Necessity to construct and operate them. Section 7(b) of the NGA specifies that no natural gas company shall abandon any portion of its facilities subject to the Commission's jurisdiction without the Commission first finding that the abandonment will not negatively affect the present or future public convenience and necessity. The Commission bases its decisions on both economic issues, including need, and environmental effects.

Your comments should focus on draft EIS's disclosure and discussion of potential environmental effects, measures to avoid or lessen environmental effects, and the completeness of the submitted alternatives, information and analyses. In addition, landowner comments are encouraged on the site-specific construction plans that TGP, SNG, and EEC developed for residences within 25 feet of construction work areas, provided in appendix G and H of the draft EIS. For your convenience, there are four methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP25-514 or CP25-517) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

(4) In lieu of sending written or electronic comments, the Commission invites you to attend one of the public comment sessions its staff will conduct in the project area to receive comments on the draft EIS, scheduled as follows:

Date and time | Location
February 23, 2026, 5:00 p.m. to 7:00 p.m. CST | American Legion Hut, 14051 Hwy. 15 South, Decatur, MS 39327.
February 24, 2026, 5:00 p.m. to 7:00 p.m. CST | The Warehouse Industrial Venue, 212 N Academy Ave., Butler, AL 36904.
February 25, 2026, 5:00 p.m. to 7:00 p.m. CST | Carl C. Morgan Convention Center, 211 Washington Street, Selma, AL 36701.
February 26, 2026, 5:00 p.m. to 7:00 p.m. CST | Tuskegee Municipal Complex, 101 Fonville Street, Tuskegee, AL 35083.
March 2, 2026, 5:00 p.m. to 7:00 p.m. CST | Wister Gardens, 1440 Hwy. 7 South, Belzoni, MS 39038.
March 3, 2026, 5:00 p.m. to 7:00 p.m. CST | Old Town Station, 410 Old Ethel Road, Kosciusko, MS 39090.
March 4, 2026, 5:00 p.m. to 7:00 p.m. CST | Copeland Center, 4501 4th St., Meridian, MS 39307.
March 5, 2026, 5:00 p.m. to 7:00 p.m. EST | Harris County Community Center, 7509 GA-116, Hamilton, GA 31811.
March 9, 2026, 5:00 p.m. to 7:00 p.m. EST | Adriana's Event Venue, 2733 Sheraton Dr., Macon, GA 31204.
March 10, 2026, 5:00 p.m. to 7:00 p.m. EST | The Pringle Building, 114 East Haynes St., Sandersville, GA 31082.
March 11, 2026, 5:00 p.m. to 7:00 p.m. EST | Holiday Inn Express, 1361 N Expressway, Griffin, GA 30223.
¹Although the associated project for a specific meeting location may indicate “MSX” or “SSE4,” FERC Staff will be accepting comments on both projects regardless of venue.

The primary goal of these comment sessions is to have you identify the specific environmental issues and concerns with the draft EIS. Individual oral comments will be taken on a one-on-one basis with a court reporter. This format is designed to receive the maximum amount of comments, in a convenient way during the timeframe allotted.

Each comment session is scheduled from 5:00 p.m. to 7:00 p.m. (local time zone where meeting is held). You may arrive at any time after 5:00 p.m. There will not be a formal presentation by Commission staff when the session opens. If you wish to speak, the Commission staff will hand out numbers in the order of your arrival. Comments will be taken until 7:00 p.m. However, if no additional numbers have been handed out and all individuals who wish to provide comments have had an opportunity to do so, staff may conclude the session at 6:30 p.m. Please see appendix 1 for additional information on the session format and conduct.⁴

⁴ The appendices referenced in this notice will not appear in the Federal Register. Copies of the appendices were sent to all those receiving this notice in the mail and are available at www.ferc.gov using the link called “eLibrary.” For assistance, contact FERC at FERCOnlineSupport@ferc.gov or call toll free, (886) 208-3676 or TTY (202) 502-8659.

Your oral comments will be recorded by the court reporter (with FERC staff or representative present) and become part of the public record for this proceeding. Transcripts will be publicly available on FERC's eLibrary system (see page 3 for instructions on using eLibrary). If a significant number of people are interested in providing oral comments in the one-on-one settings, a time limit of 5 minutes may be implemented for each commentor. Although there will not be a formal presentation, Commission staff will be available throughout the comment session to answer your questions about the environmental review process.

It is important to note that the Commission provides equal consideration to all comments received, whether filed in written form or provided orally at a comment session.

Any person seeking to become a party to the proceeding must file a motion to intervene pursuant to Rule 214 of the Commission's Rules of Practice and Procedures (18 CFR part 385.214). Motions to intervene are more fully described at https://www.ferc.gov/how-intervene. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

For public inquiries and assistance with making filings such as interventions, comments, or requests for rehearing, contact the Office of Public Participation at (202) 502-6595 or OPP@ferc.gov. Additional information about the project is available from the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

(Authority: 18 CFR 2.1)

Dated: January 30, 2026.
Debbie-Anne A. Reese,
Secretary.

[FR Doc. 2026-02427 Filed 2-5-26; 8:45 am]

BILLING CODE 6717-01-P